DEPARTMENT OF TRANSPORTATION

National Highway Traffic Safety Administration

Reports, Forms, and Record keeping Requirements; Subject: Uniform Safety Program Cost Summary Form for Highway Safety Plan; Correction

AGENCY: National Highway Traffic Safety Administration (NHTSA), Department of Transportation.

ACTION: Notice; Correction.

SUMMARY: NHTSA published a document in the Federal Register of July 24, 2001, 66 FR 38449, concerning request for public comment on proposed collection of information. The document contained an incorrect docket number.

The purpose of this notice is to notify the public of this error so comments are submitted to the correct docket number.

FOR FURTHER INFORMATION CONTACT: Walter Culbreath, 202-366-1566.

Correction: In the Federal Register of July 24, 2001, in FR Doc. 01-18402, on page 38449, in the third column at the bottom of the page, correct the “Docket Number” to read:

[U.S. DOT Docket Number NHTSA-2001-10113]

Issued on: July 27, 2001.
Herman L. Simms,
Associate Administrator for Administration.

[FR Doc. 01-19201 Filed 7-31-01; 8:45 am]

BILLING CODE 4910-59-P